DEPARTMENT OF TRANSPORTATION

Pipeline and Hazardous Materials Safety Administration

Special Permit Applications

AGENCY: Pipeline and Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (June to June 2013). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on July 15, 2013.
Donald Burger,
Chief, General Approvals and Permits.

S.P. No. | Applicant | Regulation(s) | Nature of special permit thereof
MODIFICATION SPECIAL PERMIT GRANTED
4576-M | Structural Composites Industries (SCI) Pomona, CA | 49 CFR 173.302a and 173.304a | To modify the special permit to authorize additional Division 2.1 and 2.2 materials and add Division 2.3 materials.
10915-M | Luxfer Gas Cylinders Riverside, CA | 49 CFR 173.302a, 173.304a and 180.205 | To modify the special permit to authorize a new maximum allowable working pressure and maximum allowable strength stiffness.
13581-M | Bengal Products Inc. Baton Rouge, LA | 49 CFR 173.306(a)(3) | To modify the special permit to reflect current statutes and regulations pertaining to consumer commodities.
15389-M | AMETEK Ameron LLC d/b/a MASS Systems Baldwin Park, CA | 49 CFR 173.301(a)(1), 173.301(a)(1), 173.302a(a) (1), and 173.304a(a)(1) | To modify the special permit to authorize new pressure test requirements.
13112-M | Carleton Technologies Inc. (Former Grantee: Conax Florida Corporation dba Cobham Life Support) Orchard Park, NY | 49 CFR 173.302a | To modify the special permit to change a drawing number; replace the fully assembled pressure vessel with a representative pyrotechnic primer; increase the required temperature per minute for gas relief; require a nominal operating pressure; reduce the testing frequency; and remove the flattening test.
14856-M | BKC Industries, Inc. Creedmoor, NC | 49 CFR 180.209(a) and (b) | To modify the special permit to authorize neck thread requirements that are consistant with CGA Pamphlet C-23.
14828-M | Croman Corporation White City, OR | 49 CFR 172.101 Column (9B), 172.204(c)(3), 173.27(b)(2) and (3), 175.30 and 175.75 | To modify the special permit to authorize the addition of Division 1.2 explosives.
8228-M | U.S. Department of Justice, Bureau of Alcohol, Tobacco, Firearms and Explosives (ATF) Washington, DC | 49 CFR 172.101(c), 172.203(k), 172.102, and 173.56(b) | To modify the special permit to authorize an alternative packaging.
15028-M | Roeder Cartage Company, Inc. Lima, OH | 49 CFR 180.407(c), (e), and (f) | To modify the special permit to authorize a DOT specification 407 trailer.
NEW SPECIAL PERMIT GRANTED
15792-N | American Spraytech North Branch, NJ | 49 CFR 173.306(a)(3)(v) | To authorize the transportation in commerce of certain aerosols containing a Division 2.2 compressed gas in non-refillable aerosol containers which are not subject to the hot water bath test. (mode 1)
15799-N | Consumer Products Safety Commission (CPSC) Bethesda, MD | 49 CFR 173.21(i) | To authorize the one way transportation in commerce of lighters without LA approvals. (modes 1, 4)
15778-N | Northwest Helicopters, LLC Olympia, WA | 49 CFR § 172.101 Column (9B), § 172.204(c)(3), § 173.27(b)(2), § 175.30(a)(1), §§ 172.200, 172.300, 172.400, 173.302(f)(3) and § 175.75 | To authorize the transportation in commerce of certain hazardous materials by Part 133 Rotorcraft External Load Operations, attached to or suspended from an aircraft, in remote areas of the US without meeting certain hazard communication and stowage requirements. (mode 4)
15851-N | Conair Corporation East Windsor, NJ | 49 CFR 171.2(k) | To authorize the transportation in commerce of certain used DOT 3AL cylinders that contain CO2, but not necessarily in an amount qualifying as hazardous material. (modes 1, 2, 3, 4, 5)
15836-N | Galyean LP Henderson, TX | 49 CFR 173.202, 173.203, 173.241, 173.242 and 173.243 | To authorize the transportation in commerce of certain Class 3 and Class 8 materials in alternative packaging for transportation by motor vehicle. (mode 1)
15838-N | Primo Water Corporation Winston-Salem, NC | 49 CFR 171.2(k) | To authorize the transportation in commerce of certain used cylinders that contain CO2, but not necessarily in an amount qualifying as hazardous material. (modes 1, 2, 3, 4)
15860-N | Apple Inc. Cupertino, CA | 49 CFR 173.185(a) | To authorize the transportation in commerce of damaged or defective lithium ion batteries that do not meet the requirements of § 173.185(a) (modes 1, 3)
15827-N | Advanced Chemical Transport Sunnyvale, CA | 49 CFR 173.185(a) | To authorize the manufacture, marking, sale an use of certain packagings for spent lithium ion batteries that have not been tested in accordance with the UN Manual of Test Criteria. (modes 1, 3)
15877-N | ConocoPhillips Alaska, Inc. Anchorage, AK | 49 CFR 172.101(9B) | To authorize the transportation in commerce of certain flammable or corresive liquids which exceed that quantity limitations when transported by cargo aircraft. (mode 4)
15878-N | ConAgra Foods Naperville, IL | 49 CFR 172.304(a)(3) | To authorize the transportation in commerce of certain packages whose limited quantity marking is partially overprinted by a display instruction. (mode 1)
15871-N | Shell Chemical LP Deer Park, TX | 49 CFR 171.2(g) | To authorize the transportation in commerce of certain 111A100W3 railcars containing Phenol with steam jacketed vent valves that were converted at a non-registered fabrication shop. (mode 2)
15879-N | Kalitta Air, LLC Ypsilanti, MI | 49 CFR 172.101 Column (9B), 172.204(c)(3), 173.27, and 175.30(a)(1) | To authorize the one-time transportation in commerce of certain explosives that are forbidden for transportation by cargo only aircraft. (mode 4)
15846-N | LDJ Manufacturing, Inc. Pella, IA | 49 CFR 178.346-4(b) | To authorize the manufacture, marking, sale and use of non-DOT specification cargo tanks similar to DOT 406 except that external self-closing stop-valves are authorized. (mode 1)
DENIED
14520-M | Request by Axiall Corporation Monroeville, PA June 06, 2013.
15745-N | Request by Praxair Distribution, Inc. Danbury, CT June 10, 2013. To authorize the transportation in commerce of certain foreign manufactured cylinders qualified under an alternative test method and which are not equipped with pressure relief devices.

[FR Doc. 2013-17278 Filed 7-18-13; 8:45 am]

BILLING CODE 4909-60-P